DEPARTMENT OF HEALTH AND HUMAN SERVICES

Food and Drug Administration

[Docket No. FDA-2023-N-1259]

Advancing the Utilization and Supporting the Implementation of Innovative Manufacturing Approaches; Public Workshop; Request for Comments; Correction

AGENCY: Food and Drug Administration, HHS.

ACTION: Notice of public workshop; request for comments; correction.

SUMMARY: The Food and Drug Administration is correcting a notice entitled “Advancing the Utilization and Supporting the Implementation of Innovative Manufacturing Approaches” that appeared in the Federal Register of April 24, 2023. The document announced a public workshop. The document was published with an incorrect topic for discussion. This document corrects that error.

FOR FURTHER INFORMATION CONTACT: Lisa Granger, Office of Policy, Legislation, and International Affairs, Food and Drug Administration, 301-796-9115, Lisa.Granger@fda.hhs.gov.

SUPPLEMENTARY INFORMATION:

In the Federal Register of April 24, 2023, in FR Doc. 2023-08545 (88 FR 24807), on page 24808, the following correction is made:

• On page 24808, in the second column, in Section II, “Topics for Discussion at the Public Workshop,” the fifth topic, “Science- and risk-based approaches for developing and accessing innovative technologies across platform products and sites to streamline adoption.” is corrected to read “Science- and risk-based approaches for developing and assessing innovative technologies across platform products and sites to streamline adoption.”

Dated: April 26, 2023.
Lauren K. Roth,
Associate Commissioner for Policy.

[FR Doc. 2023-09206 Filed 5-1-23; 8:45 am]

BILLING CODE 4164-01-P